DEPARTMENT OF COMMERCE

National Oceanic and Atmospheric Administration

[I.D. 122002A]

North Pacific Fishery Management Council; Public Meeting

AGENCY: National Marine Fisheries Service (NMFS), National Oceanic and Atmospheric Administration (NOAA), Commerce.

ACTION: Notice of committee meeting.

SUMMARY: The North Pacific Fishery Management Council's (Council) Crab Rationalization Community Protection Committee will meet in Anchorage, AK.

DATES: The meeting will be held on January 8-9, 2003.

ADDRESSES: The meeting will be held at the Hilton Anchorage Hotel, 500 W 3rd Avenue, Fireweed Room, Anchorage, AK 99501.

Council address: North Pacific Fishery Management Council, 605 W. 4th Ave., Suite 306, Anchorage, AK 99501-2252.

FOR FURTHER INFORMATION CONTACT: Mark Fina, NPFMC, 907-271-2809.

SUPPLEMENTARY INFORMATION: The meeting will begin at 9 a.m. on Wednesday, January 8, continue through Thursday, January 9.

The purpose of this meeting will be to review and discuss options to ensure protection of coastal community interests within the recently approved Bering Sea Aleutian Island crab rationalization program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, 907-271-2809, at least 5 working days prior to the meeting date.

Dated: December 20, 2002.
John H. Dunnigan,
Director, Office of Sustainable Fisheries, National Marine Fisheries Service.

[FR Doc. 02-32618 Filed 12-26-02; 8:45 am]

BILLING CODE 3510-22-S